DEPARTMENT OF ENERGY

Agency Information Collection Extension

AGENCY: Department of Energy.

ACTION: Submission for Office of Management and Budget (OMB) review; comment request.

SUMMARY: The Department of Energy (DOE) submitted an information collection request (ICR) to the OMB for extension under the provisions of the Paperwork Reduction Act of 1995 (OMB Control Number 1910-0068).

DOE requests a three-year extension of its collection activities for information from owners of qualified renewable energy generation facilities who apply annually for Renewable Energy Production Incentive (REPI) payments. This ICR seeks information necessary to determine whether an applicant's facility qualifies for these REPI payments by producing the requisite amount of net electricity. The information gathered by the ICR ensures that the government has sufficient information to determine whether public funds are being properly used for these incentive payments.

DATES: Comments regarding this request to extend the collection of information concerning annual applications from the owners of qualified renewable energy generation facilities must be received on or before January 28, 2008. If you anticipate that you will be submitting comments, but find it difficult to do so within the period of time allowed by this notice, please advise the OMB Desk Officer of your intention to make a submission as soon as possible. The Desk Officer may be telephoned at 202-395-4650.

ADDRESSES: Written comments should be sent to the: DOE Desk Officer, Office of Information and Regulatory Affairs, Office of Management and Budget, New Executive Office Building, Room 10102, 735 17th Street, NW., Washington, DC 20503.

Comments should also be addressed to: Dan Beckley, Project Manager, Energy Efficiency and Renewable Energy, EE-2K, Forrestal Building, U.S. Department of Energy, 1000 Independence Ave., SW., Washington, DC 20585-1290 or by fax, 202-586-1628 or by e-mail dan.beckley@ee.doe.gov.

FOR FURTHER INFORMATION CONTACT: Requests for additional information or copies should be directed to the person in ADDRESSES.

SUPPLEMENTARY INFORMATION: This package contains: (1) OMB No. 1910-0068. (2) ICR Title: Renewable Energy Production Incentive. (3) Purpose: To provide required information to receive consideration for payment for qualified renewable energy electricity produced in the prior fiscal year. (4) Estimated Number of Respondents: 75. (5) Estimated Total Burden Hours: 450. (6) Number of Collections: The ICR contains 75 (one per grantee annually) information and/or recordkeeping requirements.

Statutory Authority: Energy Policy Act of 1992 (P. L. 102-486) and as amended in the Energy Policy Act of 2005, (P. L. 109-058)—42 U.S.C. 13317.

Issued in Washington, DC, on December 19, 2007.
Mark Bailey,
Supervisor, Weatherization and Intergovernmental Program, Energy Efficiency and Renewable Energy.

[FR Doc. E7-25033 Filed 12-26-07; 8:45 am]

BILLING CODE 6450-01-P